SECURITIES AND EXCHANGE COMMISSION

[Release No. IC-27587]

Notice of Applications for Deregistration Under Section 8(f) of the Investment Company Act of 1940

November 30, 2006.

The following is a notice of applications for deregistration under section 8(f) of the Investment Company Act of 1940 for the month of November, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on December 27, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE.,Washington, DC 20549-1090.

For Further Information Contact: Diane L. Titus at (202) 551-6810, SEC, Division of Investment Management, Office of Investment Company Regulation, 100 F Street, NE., Washington, DC 20549-4041.

The Guardian Cash Fund, Inc. [File No. 811-3324]; The Guardian Bond Fund, Inc. [File No. 811-3634]; GIAC Funds, Inc. [File No. 811-6231]

Summary: Each applicant seeks an order declaring that it has ceased to be an investment company. On October 9, 2006, each applicant transferred its assets to RS Variable Products Trust, based on net asset value. Expenses of $2,500 were incurred in connection with each reorganization and were paid by Guardian Investor Services LLC, applicants' investment adviser, or its affiliates.

Filing Dates: The applications were filed on October 19, 2006, and The Guardian Bond Fund, Inc., filed an amended application on November 16, 2006.

Applicants' Address: 7 Hanover Sq., New York, NY 10004.

Old Mutual Analytic Global Long-Short Fund [File No. 811-21795]

Summary: Applicant, a closed-end investment company, seeks an order declaring that it has ceased to be an investment company. Applicant has never made a public offering of its securities and does not propose to make a public offering or engage in business of any kind.

Filing Dates: The application was filed on October 16, 2006, and amended on November 13, 2006.

Applicant's Address: c/o Old Mutual Capital, Inc., 4643 South Ulster St., Suite 600, Denver, CO 80237.

The Park Avenue Portfolio [File No. 811-5641]

Summary: Applicant seeks an order declaring that it has ceased to be an investment company. On October 9, 2006 and October 16, 2006, applicant transferred its assets to RS Investment Trust, based on net asset value. Expenses of $2,500 incurred in connection with the reorganization were paid by Guardian Investor Services LLC, applicant's investment adviser, or its affiliates.

Filing Date: The application was filed on October 20, 2006.

Applicant's Address: 7 Hanover Sq., New York, NY 10004.

The Bramwell Funds, Inc. [File No. 811-8546]

Summary: Applicant seeks an order declaring that it has ceased to be an investment company. On March 17, 2006, applicant transferred the assets of each of its two series to newly created series of Sentinel Group Funds, Inc., based on net asset value. Expenses of approximately $367,468 incurred in connection with the reorganization were paid by Sentinel Advisors Company, the investment adviser for the acquiring fund, or an affiliate and Bramwell Capital Management, Inc., applicant's investment adviser.

Filing Dates: The application was filed on October 17, 2006, and amended on November 7, 2006.

Applicant's Address: 745 Fifth Ave., New York, NY 10151.

Morgan Stanley Total Return Income Securities Fund [File No. 811-10357]

Summary: Applicant seeks an order declaring that it has ceased to be an investment company. Applicant has never made a public offering of its securities and does not propose to make a public offering or engage in business of any kind.

Filing Dates: The application was filed on September 25, 2006, and amended on October 25, 2006.

Applicant's Address: Morgan Stanley Investment Advisors Inc., 1221 Avenue of the Americas, New York, NY 10020.

Columbia Daily Income Company [File No. 811-2507]

Summary: Applicant seeks an order declaring that it has ceased to be an investment company. On November 21, 2005, applicant transferred its assets to a corresponding series of Columbia Funds Series Trust, based on net asset value. Expenses of approximately $181,275 incurred in connection with the reorganization were paid by applicant and Columbia Management Advisors, LLC, applicant's investment adviser.

Filing Dates: The application was filed on June 23, 2006, and amended on November 9, 2006.

Applicant's Address: 1301 SW Fifth Ave., Portland, OR 97201.

Columbia Funds Trust III [File No. 811-881]; Columbia Funds Trust IV [File No. 811-2865]; Columbia Funds Trust II [File No. 811-3009]; Columbia Funds Trust VIII [File No. 811-4552]; Columbia Funds Trust XI [File No. 811-4978]; Columbia Funds Trust V [File No. 811-5030]; Columbia Funds Trust VI [File No. 811-6529]

Summary: Each applicant seeks an order declaring that it has ceased to be an investment company. On March 27, 2006, each series of each applicant transferred its assets to a corresponding series of Columbia Funds Series Trust I, based on net asset value. Expenses of approximately $152,827, $76,413, $57,310, $38,207, $229,240, $286,550 and $57,310, respectively, incurred in connection with the reorganizations were paid by Columbia Management Advisors, LLC, applicants' investment adviser.

Filing Dates: The applications were filed on June 23, 2006, and amended on November 7, 2006.

Applicants' Address: One Financial Center, Boston, MA 02111.

Columbia Oregon Municipal Bond Fund, Inc. [File No. 811-3983]; Columbia Mid Cap Growth Fund, Inc. [File No. 811-4362]; Columbia Balanced Fund, Inc. [File No. 811-6338]; Columbia Small Cap Growth Fund, Inc. [File No. 811-7671]; Columbia Real Estate Equity Fund, Inc. [File No. 811-8256]; Columbia Technology Fund, Inc. [File No. 811-10159]; Columbia Strategic Investor Fund, Inc. [File No. 811-10161]

Summary: Each applicant seeks an order declaring that it has ceased to be an investment company. On March 27, 2006, each applicant transferred its assets to a corresponding series of Columbia Funds Series Trust I, based on net asset value. Expenses of approximately $19,103 incurred in connection with each reorganization were paid by Columbia Management Advisors, LLC, applicants' investment adviser.

Filing Dates: The applications were filed on June 23, 2006, and amended on November 7, 2006.

Applicants' Address: 1301 SW Fifth Ave., Portland, OR 97201.

Columbia Funds Trust VII [File No. 811-6347]

Summary: Applicant seeks an order declaring that it has ceased to be an investment company. On October 10, 2005, applicant transferred its assets to a corresponding series of Columbia Funds Series Trust I, based on net asset value. Expenses of approximately $114,620 incurred in connection with the reorganization were paid by Columbia Management Advisors, LLC, applicant's investment adviser.

Filing Dates: The application was filed on June 23, 2006, and amended on July 17, 2006 and November 7, 2006.

Applicant's Address: One Financial Center, Boston, MA 02111.

Columbia High Yield Fund, Inc. [File No. 811-7834]

Summary: Applicant seeks an order declaring that it has ceased to be an investment company. On March 27, 2006, applicant transferred its assets to a corresponding series of Columbia Funds Series Trust I, based on net asset value. Expenses of $19,103 incurred in connection with the reorganization were paid by Columbia Management Advisors, LLC, applicant's investment adviser.

Filing Dates: The application was filed on June 23, 2006, and amended on November 7, 2006.

Applicant's Address: 1301 SW Fifth Ave., Portland, OR 97201.

USAA Life Investment Trust [811-8672]

Summary: Applicant seeks an order declaring that it has ceased to be an investment company. On June 30, 2006, applicant made a liquidating distribution of assets to its shareholders, based on net asset value. Expenses of $13,915 incurred in connection with the liquidation were paid by USAA Life Insurance Company, an affiliate of USAA Investment Management Company, the adviser and principal underwriter for applicant.

Filing Dates: The application was filed on August 31, 2006, and amended on November 24, 2006.

Applicant's Address: USAA Life Investment Trust, 9800 Fredericksburg Road, San Antonio, Texas 78288.

MetLife of CT Variable Life Insurance Separate Account Four [File No. 811-7889]

Summary: Applicant seeks an order declaring that it has ceased to be an investment company. Applicant has never made a public offering of its securities and does not propose to make a public offering or engage in business of any kind.

Filing Date: The application was filed on September 9, 2006.

Applicant's Address: MetLife Insurance Company of Connecticut, One City Place, 185 Asylum Street 3CP, Hartford, CT 06103-3415.

MetLife of CT Fund VA for Variable Annuities [File No. 811-8740]

Summary: Applicant seeks an order declaring that it has ceased to be an investment company. Applicant has not made any public offering of its securities and is not engaged, or intending to engage in any business activity other than those necessary for winding up its affairs.

Filing Dates: The application was filed on September 17, 2002, and amended on September 7, 2006.

Applicant's Address: MetLife Life and Annuity Company of Connecticut, One City Place, 185 Asylum Street 3CP, Hartford, CT 06103-3415.

Tactical Growth and Income Stock Account for Variable Annuities [File No. 811-5090]

Summary: Applicant seeks an order declaring that it has ceased to be an investment company. On April 28, 2006, applicant made a distribution of its assets to its shareholders in connection with its merger with MetLife Stock Index Portfolio of Metropolitan Series Fund, Inc. Expenses of $ 57,745 were incurred in connection with the merger. These expenses were paid by The Travelers Insurance Company, applicant's depositor.

Filing Date: The application was filed on August 18, 2006.

Applicant's Address: One Cityplace, Hartford, Connecticut 06103.

Tactical Short-Term Bond Account for Variable Annuities [File No. 811-5089]

Summary: Applicant seeks an order declaring that it has ceased to be an investment company. On April 28, 2006, applicant made a distribution of its assets to its shareholders in connection with its merger with BlackRock Money Market Portfolio of Metropolitan Series Fund, Inc. Expenses of $57,745 were incurred in connection with the merger. These expenses were paid by The Travelers Insurance Company, applicant's depositor.

Filing Date: The application was filed on August 18, 2006.

Applicant's Address: One Cityplace, Hartford, Connecticut 06103.

The Travelers Growth and Income Stock Account for Variable Annuities [File No. 811-1539]

Summary: Applicant seeks an order declaring that it has ceased to be an investment company. On April 28, 2006, applicant made a distribution of its assets to its shareholders in connection with its merger with Batterymarch Growth and Income Portfolio of Met Investors Series Trust. Expenses of $57,745 were incurred in connection with the merger. These expenses were paid by The Travelers Insurance Company, applicant's depositor.

Filing Date: The application was filed on August 18, 2006.

Applicant's Address: One Cityplace, Hartford, Connecticut 06103.

The Travelers Quality Bond Account for Variable Annuities [File No. 811-2571]

Summary: Applicant seeks an order declaring that it has ceased to be an investment company. On April 28, 2006, applicant made a distribution of its assets to its shareholders in connection with its merger with BlackRock Bond Income Portfolio of Metropolitan Series Fund, Inc. Expenses of $57,745 were incurred in connection with the merger. These expenses were paid by The Travelers Insurance Company, applicant's depositor.

Filing Date: The application was filed on August 18, 2006.

Applicant's Address: One Cityplace, Hartford, Connecticut 06103.

Travelers Money Market Account For Variable Annuities [File No. 811-3409]

Summary: Applicant seeks an order declaring that it has ceased to be an investment company. On April 28, 2006, applicant made a distribution of its assets to its shareholders in connection with its merger with BlackRock Money Market Portfolio of Metropolitan Series Fund, Inc. Expenses of $57,745 were incurred in connection with the merger. These expenses were paid by The Travelers Insurance Company, applicant's depositor.

Filing Date: The application was filed on August 18, 2006.

Applicant's Address: One Cityplace, Hartford, Connecticut 06103.

Tactical Aggressive Stock Account for Variable Annuities [File No. 811-5091]

Summary: Applicant seeks an order declaring that it has ceased to be an investment company. On April 28, 2006, applicant made a distribution of its assets to its shareholders in connection with its merger with MetLife Mid Cap Stock Index Portfolio of Metropolitan Series Fund, Inc. Expenses of $57,745 were incurred in connection with the merger. These expenses were paid by The Travelers Insurance Company, applicant's depositor.

Filing Date: The application was filed on August 18, 2006.

Applicant's Address: One Cityplace, Hartford, Connecticut 06103.

LSW Variable Annuity Account I [File No. 811-8681]

Summary: Applicant seeks an order declaring that it has ceased to be an investment company. Applicant abandoned its intention to operate before it received any assets. Applicant has never made a public offering of its securities and does not propose to make a public offering or engage in any business activity other than that necessary to wind up its affairs.

Filing Date: The application was filed on April 21, 2006.

Applicant's Address: 1300 West Mockingbird Lane, Dallas, TX 75247.

LSW Variable Life Insurance Account [File No. 811-10315]

Summary: Applicant seeks an order declaring that it has ceased to be an investment company. Applicant abandoned its intention to operate before it received any assets. Applicant has never made a public offering of its securities and does not propose to make a public offering or engage in any business activity other than that necessary to wind up its affairs.

Filing Date: The application was filed on April 21, 2006.

Applicant's Address: 1300 West Mockingbird Lane, Dallas, TX 75247.

Guardian Variable Contract Funds, Inc. [File No. 811-3636]

Summary: Applicant seeks an order declaring that it has ceased to be an investment company. Shareholders approved the merger of applicant on September 28, 2006, and applicant distributed its assets on October 9, 2006. The fund surviving the merger is RS Variable Products Trust, a Massachusetts business trust and open-end management investment company. Guardian Investor Services LLC, applicant's investment adviser, or its affiliates paid the fees incurred in connection with the merger.

Filing Date: The application was filed on October 19, 2006.

Applicant's Address: 7 Hanover Sq., New York, NY 10004.

For the Commission, by the Division of Investment Management, pursuant to delegated authority.
Nancy M. Morris,
Secretary.

[FR Doc. E6-20632 Filed 12-5-06; 8:45 am]

BILLING CODE 8011-01-P